FEDERAL COMMUNICATIONS COMMISSION

47 CFR Part 73

[DA 03-2753; MB Docket No. 03-192; RM-10763]

Radio Broadcasting Services; Brazil and Spencer, IN

AGENCY: Federal Communications Commission.

ACTION: Proposed rule.

SUMMARY: This document requests comments on a petition for rulemaking filed jointly by Crossroads Investments, Inc., licensee of Station WSDM-FM, Channel 249A, Brazil, Indiana, and Mid-America Radio of Indiana, Inc., licensee of Station WSKT(FM), Channel 224A, Spencer, Indiana. Parties request the substitution of Channel 224A for Channel 249A at Brazil and modification of the license for Station WSDM-FM accordingly, and the substitution of Channel 249A for Channel 224A at Spencer and modification of the license of Station WSKT(FM) accordingly. Channel 249A can be allotted to Spencer in compliance with the Commission's minimum distance separation requirements with a site restriction of 9.5 kilometers (5.9 miles) west of the community at Station WSKT(FM)'s requested site at coordinates 39-15-18 North Latitude and 86-51-51 West Longitude. Additionally, Channel 224A can be allotted to Brazil with a site restriction of 1.8 kilometers (1.1 miles) southwest of the community at Station WSDM-FM's requested site at coordinates 39-30-43 NL and 87-08-19 WL. In accordance with Section 1.420(g)(3) of the Commission's Rules, any party expressing an interest in the respective channels should demonstrate why these proposals are not “incompatible channel swaps” such that their expressions of interest are foreclosed.

DATES: Comments must be filed on or before October 27, 2003, and reply comments on or before November 12, 2003.

ADDRESSES: Federal Communications Commission, 445 Twelfth Street, SW., Washington, DC 20554. In addition to filing comments with the FCC, interested parties should serve the petitioner's counsel, as follows: Frank R. Jazzo, Anne Goodwin Crump, Fletcher, Heald and Hildreth, PLC, 1300 North 17th Street, Eleventh Floor, Arlington, Virginia 22209.

FOR FURTHER INFORMATION CONTACT: Victoria McCauley, Media Bureau, (202) 418-2180.

SUPPLEMENTARY INFORMATION: This is a synopsis of the Commission's Notice of Proposed Rule Making, MB Docket No. 03-192 adopted September 3, 2003, and released September 5, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone (202) 863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Indiana, is amended by removing Channel 249A and adding Channel 224A at Brazil and by removing Channel 224A and adding Channel 249A at Spencer.

Federal Communications Commission.
John A. Karousos,
Assistant Chief, Audio Division, Media Bureau.

[FR Doc. 03-24939 Filed 10-1-03; 8:45 am]

BILLING CODE 6712-01-P